DEPARTMENT OF ENERGY

Federal Energy Regulatory Commission

[EL10-65-010]

Louisiana Public Service Commission v. Entergy Corporation; Entergy Services Inc.; Entergy Louisiana, LLC; Entergy Arkansas, Inc.; Entergy Mississippi, Inc.; Entergy New Orleans, Inc.; Entergy Gulf States Louisiana, L.L.C.; Entergy Texas, Inc.; Notice of Filing

On May 17, 2021, Entergy Services, LLC,¹ acting as agent for Entergy Operating Companies ² filed a compliance filing consisting of the bandwidth formula rate recalculations for the June-December 2005 test year; additional interest calculations for the 2010, 2011, and 2012 test years (fifth, sixth and seventh bandwidth calculations); and supporting workpapers for the identified adjustments, pursuant to the Federal Energy Regulatory Commission's (Commission) Order issued dated April 15, 2021.³

¹ Effective September 30, 2018, Entergy Services, Inc., changed its name to Entergy Services, LLC.

² The Entergy Operating Companies (Operating Companies) are currently Entergy Arkansas, LLC, (formerly Entergy Arkansas, Inc.), Entergy Louisiana, LLC, Entergy Mississippi, LLC (formerly Entergy Mississippi, Inc.), Entergy New Orleans, LLC (formerly Entergy New Orleans, Inc.), and Entergy Texas, Inc.

³ La. Pub. Serv. Comm'n v. Entergy Corp., et al., 175 FERC ¶ 61,042 (2020).

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on September 15, 2021.

Dated: August 25, 2021.
Kimberly D. Bose,
Secretary.

[FR Doc. 2021-18739 Filed 8-30-21; 8:45 am]

BILLING CODE 6717-01-P